ENVIRONMENTAL PROTECTION AGENCY

[FRL-6849-6]

Geiger (C & M Oil) Superfund Site, Notice of Proposed Settlement

AGENCY: Environmental Protection Agency.

ACTION: Notice of proposed settlement.

SUMMARY: Under Section 122(g) of the Comprehensive Environmental Response, Compensation, and Liability Act (CERCLA), the Environmental Protection Agency proposes to enter into a settlement to settle claims for response costs at the Geiger (C & M Oil) Superfund Site in Rantowles, Charleston County, South Carolina, with the following parties: Textron Inc. and Avco Corporation in Providence Rhode Island and Charleston Packaging Company, Inc., located in North Charleston, South Carolina.

EPA will consider public comments on the proposed settlement for thirty days. EPA may withdraw from or modify the proposed settlement should such comments disclose facts or considerations which indicate the proposed settlement is inappropriate, improper or inadequate. Copies of the proposed settlement are available from: Ms. Paula V. Batchelor, U.S. Environmental Protection Agency, Region 4, Waste Management Division, 61 Forsyth Street, SW, Atlanta, Georgia 30303, 404/562-8887.

Written comments may be submitted to Ms. Batchelor at the above address on or before September 11, 2000.

Dated: August 4, 2000.
Franklin E. Hill,
Chief, CERCLA Program Services Branch, Waste Management Division.

[FR Doc. 00-20425 Filed 8-10-00; 8:45 am]

BILLING CODE 6560-50-P